DEPARTMENT OF DEFENSE

Department of the Army

Notice of Availability (NOA) of the Final Pinon Canyon Maneuver Site (PCMS) Transformation Environmental Impact Statement (EIS) and Evaluation of Environmental Effects of Continued Land and Mineral Withdrawal Under Public Law 104-201

AGENCY: Department of the Army, Department of Defense.

ACTION: Notice of availability.

SUMMARY: The Army announces the availability of the Final PCMS Transformation EIS evaluating the environmental effects of implementing restationing actions of the Base Realignment and Closure (BRAC) 2005 and other Army transformation programs at the PCMS training area in Las Animas County in southeastern Colorado. The Final EIS also documents the U.S. Army's evaluation of environmental effects of withdrawal of public land and mineral rights under Public Law 104-201.

DATES: The waiting period for the Final EIS will end 30 days after publication of an NOA in the Federal Register by the U.S. Environmental Protection Agency.

ADDRESSES: To obtain a copy of the FEIS contact the PCMS National Environmental Policy Act (NEPA) Coordinator, Directorate of Environmental Compliance and Management, 1638 Elwell Street, Building 6236, Fort Carson, CO 80913-4000; e-mail: carsdecampcmsnepa&conus.army.mil

FOR FURTHER INFORMATION CONTACT: PCMS NEPA Coordinator at (719) 526-0912 or fax (719) 526-17050.

SUPPLEMENTARY INFORMATION: The Final PCMS Transformation EIS evaluates the environmental and socioeconomic effects of implementing three Army transformation programs at the Fort Carson: BRAC 2005; Integrated Global Presence and Basing Strategy (also known as Global Defense Posture Realignment); and the Army Modular Force initiative. These programs are part of the overall Army restructuring and are needed to prepare the Army's combat forces for deployment around the world.

The Proposed Action evaluated in the Final PCMS Transformation EIS is the Army's preferred alternative to implement the three transformation programs. The Proposed Action includes: (1) Increased use of the PCMS training areas to provide training for approximately 8,500 realigned Active Component (AC) soldiers and additional Reserve Component (RC) soldiers assigned to, or otherwise under the control of, Fort Carson, and (2) construction of facilities in the cantonment and training areas. The Final EIS also evaluates the environmental effects of the current withdrawal and reservation of 2,517.12 acres of public land and 130,139 acres of federally owned minerals within the PCMS borders (as required by Section 2908 of Pub. L. 140-201.

The Proposed Action will provide for increased frequency of training for existing and new units stationed at, or otherwise assigned to Fort Carson. Training and maneuver activities would be similar to the types of activities that presently occur on the PCMS. The increased training requirements of additional AC and RC units, however, will result in increased frequency of use of the training areas. The Army will continue to implement land and environmental management programs and practices to sustain its training lands for continued use.

Support facilities will be constructed in the PCMS cantonment area, including a brigade support complex, medical facilities, storage facilities, minimum soldier support functions, a vehicle maintenance facility, motor pools and upgrade of roads and utilities. Similar to existing facilities at the PCMS, the cantonment facilities constructed under the Proposed Action alternative would be austere. No units will be permanently stationed at the PCMS; therefore, the PCMS will not support long-term soldier care and will have no role in providing permanent support for dependents, civilian contractors, or personnel other than minimal custodial staff. Outside the cantonment, the Army will construct and operate a live hand grenade range, ammunition holding area, protective equipment training facility, and communication facilities, and upgrade an existing small-arms range building. These projects are necessary to allow the PCMS to certify soldiers for operational deployments.

The Final EIS also evaluated the No Action alternative in accordance with the Council on Environmental Quality and Army NEPA implementing regulations to provide a benchmark against which to compare the magnitude of environmental effects of the Proposed Action. Under the No Action alternative, no additional soldiers would train at the PCMS despite the stationing of significant numbers of additional soldiers at Fort Carson. The Proposed Action's construction would not occur. Existing land and environmental management programs would continue. This alternative is not feasible because restationing at Fort Carson has been directed by BRAC 2005, and soldiers assigned to Fort Carson need to be trained.

Alternatives for the BRAC realignment at Fort Carson were not considered in the Final EIS in accordance with the BRAC Law, which exempts such alternatives from consideration. Other alternatives considered by the Army, but determined not to be feasible, included training troops at other locales, acquiring additional land for training, or varying training schedules to account for operational deployments. These alternatives were determined not to be reasonable because they did not meet the purpose and need of the action or unreasonably restricted the Army's ability to react to changing conditions. Acquisition of additional land was also not considered reasonable, in part, because not enough information about it is currently known.

The Proposed Action has the potential to result in adverse effects to land use, air quality, noise, geology and soils, water resources, biological resources, cultural resources, transportation, utilities, and hazardous and toxic substances. With implementation of mitigation measures and best management practices, none of the impacts would be significant. Minor temporary beneficial effects will occur for socioeconomic resources.

The Proposed Action does not include expansion of the PCMS or land acquisition. The Proposed Action incorporates modifications to training requirements to best meet current training needs. The Army plans to prepare a separate EIS for PCMS land expansion once a proposed action and initial set of alternatives have been developed for that action.

An electronic version of the Final EIS can be viewed or downloaded from the following Web site: http://www.hqda.army.mil/acsim/brac/nepa_eis_docs.htm. Copies can be requested from the PCMS NEPA Coordinator or viewed at local libraries.

Dated: June 13, 2007.
Addison D. Davis, IV,
Deputy Assistant Secretary of the Army (Environment, Safety and Occupational Health).

[FR Doc. 07-3026 Filed 6-19-07; 8:45 am]

BILLING CODE 3710-08-M